DEPARTMENT OF THE INTERIOR

National Park Service

[NPS-WASO-D-COS-POL-21889; PPWODIREP0; PPMPSPD1Y.YM0000]

Notice of November 17-18, 2016, Meeting of the National Park System Advisory Board

AGENCY: National Park Service, Interior.

ACTION: Meeting notice.

SUMMARY: Notice is hereby given in accordance with the Federal Advisory Committee Act, 5 U.S.C. Appendix 1-16, and part 62 of title 36 of the Code of Federal Regulations that the National Park System Advisory Board will meet November 17-18, 2016, in Philadelphia, Pennsylvania. The agenda will include the review of proposed actions regarding the National Historic Landmarks Program. Interested parties are encouraged to submit written comments and recommendations that will be presented to the Board. Interested parties also may attend the board meeting and upon request may address the Board concerning an area's national significance.

DATES: (a) Written comments regarding any proposed National Historic Landmarks matter listed in this notice will be accepted by the National Park Service until November 15, 2016. (b) The Board will meet on November 17-18, 2016.

ADDRESSES: The meeting will be held in The Liberty View meeting room on the second floor of the Independence Visitor Center, 1 N. Independence Mall W., Philadelphia, Pennsylvania 19106, telephone (215) 965-2300.

Agenda: On the morning of November 17, the Board will convene its business meeting at 8:15 a.m., Eastern Standard Time, and adjourn for the day at 11:30 a.m. On November 18, the Board will reconvene at 8:00 a.m., and adjourn at 5:00 p.m. During the course of the two days, the Board may be addressed by National Park Service Director Jonathan Jarvis and briefed by other NPS officials regarding education, philanthropy, NPS urban initiatives, science, and the NPS Centennial; deliberate and make recommendations concerning National Historic Landmarks Program proposals; and receive status briefings on matters pending before committees of the Board.

FOR FURTHER INFORMATION CONTACT: (a) For information concerning the National Park System Advisory Board or to request to address the Board, contact Shirley Sears, Office of Policy, National Park Service, MC 0004-Policy, 1849 C Street NW., Washington, DC 20240, telephone (202) 354-3955, email Shirley_Sears@nps.gov. (b) To submit a written statement specific to, or request information about, any National Historic Landmarks matter listed below, or for information about the National Historic Landmarks Program or National Historic Landmarks designation process and the effects of designation, contact J. Paul Loether, Chief, National Register of Historic Places and National Historic Landmarks Program, National Park Service, 1849 C Street NW. (2280), Washington, DC 20240, email Paul_Loether@nps.gov.

SUPPLEMENTARY INFORMATION: Matters concerning the National Historic Landmarks Program will be considered by the Board as follows:

National Historic Landmarks (NHL) Program

NHL Program matters will be considered at the morning session of the business meeting on November 18, during which the Board may consider the following:

Nominations for New NHL Designations

Alaska

• Walrus Islands Archeological District, Dillingham Census Area

Arizona

• Painted Desert Community Complex, Petrified Forest National Park, Apache County

California

• Chicano Park, San Diego

• Neutra Studio and Residences (VDL Research House), Los Angeles

• Our Lady of Guadalupe Mission Chapel, San Jose

Delaware

• George Read II House, New Castle

Indiana

• West Union Bridge, Parke County

Iowa

• Kimball Village Site, Plymouth County

Kansas

• Wyandotte National Burying Ground (Eliza Burton Conley Burial Site), Kansas City

Maryland

• Shifferstadt, Frederick

Mississippi

• Medgar and Myrlie Evers House, Jackson

Nebraska

• Omaha Union Station, Omaha

New York

• Davis-Ferris Organ, Village of Round Lake

• Franklin D. Roosevelt Library, Hyde Park

• New York State Barge Canal Historic District

Albany County

• City of Cohoes

• Colonie

• Cayuga County

• Aurelius

• Brutus

• Cato

• Conquest

• Mentz

• Montezuma

Erie County

• City of Tonawanda

• Amherst

• Tonawanda

Herkimer County

• City of Little Falls

• Danube

• Frankfort

• German Flatts

• Herkimer

• Little Falls

• Manheim

• Ohio

• Russia

• Schuyler

• Village of Frankfort

• Village of Herkimer

• Village of Ilion

• Village of Mohawk

Madison County

• Lenox

• Sullivan

Monroe County

• City of Rochester

• Brighton

• Chili

• Clarkson

• Trenton

• Verona

• Vienna

• Western

• Village of Sylvan Beach

Onondaga County

• City of Syracuse

• Cicero

• Clay

• Elbridge

• Geddes

• Lysander

• Salina

• Van Buren

• Village of Baldwinsville

• Village of Liverpool

Orleans County

• Albion

• Gaines

• Murray

• Ridgeway

• Shelby

• Village of Albion

• Village of Holley

• Village of Medina

Oswego County

• City of Fulton

• City of Oswego

• Constantia

• Granby

• Hastings

• Minetto

• Schroeppel

• Scriba

• Volney

• West Monroe

• Village of Cleveland

• Village of Phoenix

Rensselaer County

• City of Troy

• Schaghticoke

Saratoga County

• City of Mechanicville

• Clifton Park

• Halfmoon

• Moreau

• Northumberland

• Saratoga

• Stillwater

• Waterford

• Village of Schuylerville

• Village of Stillwater

• Village of Waterford

Schenectady County

• City of Schenectady

• Glenville

• Niskayuna

• Rotterdam

• Village of Scotia

Seneca County

• Seneca Falls

• Tyre

• Waterloo

• Village of Waterloo

Washington County

• Easton

• Fort Ann

• Fort Edward

• Greenwich

• Hartford

• Kingsbury

• Whitehall

• Village of Fort Ann

• Village of Fort Edward

• Village of Whitehall

Wayne County

• Arcadia

• Galen

• Lyons

• Macedon

• Palmyra

• Savannah

• Village of Clyde

• Village of Lyons

• Village of Macedon

• Village of Newark

• Village of Palmyra

• Schomburg Center for Research in Black Culture, New York

North Carolina

• Pauli Murray Family Home, Durham

North Dakota

• Biesterfeldt Site, Ransom County

Ohio

• Eldean Bridge, Miami County

• Greenhills Historic District, Greenhills

• May 4, 1970, Kent State Shootings Site, Kent

Pennsylvania

• Keim Homestead, Oley

• W. A. Young and Sons Foundry and Machine Shop, Rices Landing

Texas

• Casa José Antonio Navarro, San Antonio

Wyoming

• Site No. 48GO305, Goshen County

Proposed Amendments to Existing Designations

Indiana

• Indiana War Memorials Historic District, Indianapolis (updated documentation, boundary and name change)

Louisiana

• Maison Olivier, St. Martinvilleb (updated documentation and name change)

New York

• Hamilton Grange, New York (updated documentation)

North Carolina

• Old Salem Historic District, Winston-Salem (updated documentation and boundary change)

Virginia

• Ball's Bluff Battlefield Historic District, Loudoun County (boundary change and updated documentation)

• Virginia State Capitol, Richmond (name change and updated documentation)

Proposed Withdrawal of Designation

Louisiana

• Kate Chopin House, Cloutierville

The board meeting will be open to the public. The order of the agenda may be changed, if necessary, to accommodate travel schedules or for other reasons. Space and facilities to accommodate the public are limited and attendees will be accommodated on a first-come basis. Anyone may file with the Board a written statement concerning matters to be discussed. The Board also will permit attendees to address the Board, but may restrict the length of the presentations, as necessary to allow the Board to complete its agenda within the allotted time. Before including your address, telephone number, email address, or other personal identifying information in your comment, you should be aware that your entire comment—including your personal identifying information—may be made publicly available at any time. While you may ask us in your comment to withhold your personal identifying information from public review, we cannot guarantee that we will be able to do so.

Draft minutes of the meeting will be available for public inspection about 12 weeks after the meeting at the Office of Policy, MC 0004-Policy, 1849 C Street NW., Washington, DC.

Alma Ripps,
Chief, Office of Policy.

[FR Doc. 2016-22349 Filed 9-15-16; 8:45 am]

BILLING CODE 4310-EE-P